SOCIAL SECURITY ADMINISTRATION

[Docket No. SSA 2008-0026]

Privacy Act of 1974, as Amended; Computer Matching Program (SSA/Department of Labor (DOL) Match Number 1003))

AGENCY: Social Security Administration (SSA).

ACTION: Notice of the renewal of an existing computer matching program which is scheduled to expire on May 15, 2008.

SUMMARY: In accordance with the provisions of the Privacy Act, as amended, this notice announces the renewal of an existing computer matching program that SSA is currently conducting with DOL.

DATES: SSA will file a report of the subject matching program with the Committee on Homeland Security and Governmental Affairs of the Senate; the Committee on Oversight and Government Reform of the House of Representatives; and the Office of Information and Regulatory Affairs, Office of Management and Budget (OMB). The renewal of the matching program will be effective as indicated below.

ADDRESSES: Interested parties may comment on this notice by either telefax to (410) 965-0201 or writing to the Deputy Commissioner for Budget, Finance and Management, 800 Altmeyer Building, 6401 Security Boulevard, Baltimore, MD 21235-6401. All comments received will be available for public inspection at this address.

FOR FURTHER INFORMATION CONTACT: The Deputy Commissioner for Budget, Finance and Management as shown above.

SUPPLEMENTARY INFORMATION:

A. General

The Computer Matching and Privacy Protection Act of 1988 Public Law (Pub. L.) 100-503, amended the Privacy Act (5 U.S.C. 552a) by describing the conditions under which computer matching involving the Federal government could be performed and adding certain protections for individuals applying for and receiving Federal benefits. Section 7201 of the Omnibus Budget Reconciliation Act of 1990 (Pub. L. 101-508) further amended the Privacy Act regarding protections for such individuals.

The Privacy Act, as amended, regulates the use of computer matching by Federal agencies when records in a system of records are matched with other Federal, State or local government records. It requires Federal agencies involved in computer matching programs to:

(1) Negotiate written agreements with the other agency or agencies participating in the matching programs;

(2) Obtain the approval of the matching agreement by the Data Integrity Boards (DIB) of the participating Federal agencies;

(3) Publish notice of the computer matching program in the Federal Register;

(4) Furnish detailed reports about matching programs to Congress and OMB;

(5) Notify applicants and beneficiaries that their records are subject to matching; and

(6) Verify match findings before reducing, suspending, terminating or denying an individual's benefits or payments.

B. SSA Computer Matches Subject to the Privacy Act

We have taken action to ensure that all of SSA's computer matching programs comply with the requirements of the Privacy Act, as amended.

Dated: April 22, 2008.
Mary Glenn-Croft,
Deputy Commissioner for Budget, Finance and Management.

Notice of Computer Matching Program, SSA With DOL

A. Participating Agencies

SSA and DOL.

B. Purpose of the Matching Program

This computer matching agreement sets forth the responsibilities of SSA and DOL with respect to information disclosed pursuant to this agreement and is executed under the Privacy Act of 1974, 5 U.S.C. 552a, as amended by the Computer Matching and Privacy Protection Act of 1988, as amended, and the regulations promulgated thereunder. It establishes the conditions under which the DOL agrees to the disclosure of Part C Black Lung (BL) benefit data (DOL administered) to SSA. SSA will match DOL's Part C BL data with SSA's records of persons receiving Social Security disability benefits in order to verify that recipients of Part C BL benefits are receiving the correct amount of Social Security disability benefits.

C. Authority for Conducting the Matching Program

Section 224(h)(1) of the Social Security Act (the Act), 42 U.S.C. 424a(h)(1), requires any Federal Agency to provide SSA with information in its possession that SSA may require for purposes of making a timely determination of the amount of reduction required under section 224 of the Act; e.g., workers' compensation offset.

D. Categories of Records and Individuals Covered by the Matching Program

DOL will provide a file each month in a format defined by SSA. This file will contain the necessary identifying and payment information for all live miners, under age 65, entitled to Part C BL payments. This file contains records of approximately 89,000 individuals whose DOL records SSA will need to run against the MBR.

SSA will match the Master Beneficiary Record (MBR), SSA/OEEAS 60-0090, which contains all data pertinent to the payment of SSA beneficiaries, with an extract from DOL, Office of Workers' Compensation Programs BL Benefit Payments File, DOL/ESA-30. DOL has published an appropriate routine use to permit the disclosures necessary to conduct this match.

E. Inclusive Dates of the Matching Program

The matching program will become effective upon signing of the agreement by all parties to the agreement and approval of the agreement by the Data Integrity Boards of the respective agencies, but no sooner than 40 days after notice of the matching program is sent to Congress and the Office of Management and Budget, or 30 days after publication of this notice in the Federal Register, whichever date is later. The matching program will continue for 18 months from the effective date and may be extended for an additional 12 months thereafter, if certain conditions are met.

[FR Doc. E8-9465 Filed 4-29-08; 8:45 am]

BILLING CODE 4191-02-P